DEPARTMENT OF EDUCATION

34 CFR Chapter VI

Office of Postsecondary Education; Notice of Negotiated Rulemaking for Programs Authorized Under Title IV of the Higher Education Act of 1965, as Amended

AGENCY: Department of Education.

ACTION: Notice of establishment of negotiated rulemaking committee.

SUMMARY: We announce our intention to establish up to four negotiated rulemaking committees to prepare proposed regulations under Title IV of the Higher Education Act of 1965, as amended (HEA). Each committee will include representatives of organizations or groups with interests that are significantly affected by the subject matter of the proposed regulations. We also announce a series of four regional hearings, as detailed in the DATES section of this notice, where interested parties can suggest issues that should be considered for action by the negotiating committees. In addition, we request nominations for individual negotiators who represent key stakeholder constituencies that are involved in the student financial assistance programs authorized under Title IV of the HEA to serve on these committees.

DATES: We must receive your nominations for negotiators to serve on the committees on or before November 9, 2006. (See dates, times, and locations of regional hearings under the SUPPLEMENTARY INFORMATION section of this notice.)

ADDRESSES: Please send your nominations for negotiators to Patty Chase, U.S. Department of Education, 1990 K Street, NW., Room 8050, Washington, DC 20006, or by fax to Patty Chase at (202) 502-7874. You may also e-mail your nominations to: Patty.Chase@ed.gov. Those nominated will be notified via letter as to whether or not they have been selected as a negotiator as soon as the Department's review process is completed.

FOR FURTHER INFORMATION CONTACT: For information about the hearings and the nomination submission process: Patty Chase, U.S. Department of Education, 1990 K Street, NW., Room 8050, Washington, DC 20006. Telephone: (202) 502-7905.

For information about negotiated rulemaking in general: Wendy Macias, U.S. Department of Education, 1990 K Street, NW., Room 8017, Washington, DC 20006. Telephone (202) 502-7526. You may also e-mail your questions about negotiated rulemaking to: Wendy.Macias@ed.gov.

If you use a telecommunications device for the deaf (TDD), you may call the Federal Relay Service (FRS) at 1-800-877-8339.

Individuals with disabilities may obtain this document in an alternative format (e.g., Braille, large print, audiotape, or computer diskette) on request to the contact person listed in this section for information about the hearings and the nomination submission process.

SUPPLEMENTARY INFORMATION: Section 492 of the Higher Education Act of 1965, as amended (HEA), requires that, before publishing any proposed regulations to implement programs under Title IV of the HEA, the Secretary obtain public involvement in the development of the proposed regulations. After obtaining advice and recommendations from the public, the Secretary must use a negotiated rulemaking process to develop the proposed regulations.

We intend to develop proposed regulations by following the negotiated rulemaking procedures in section 492 of the HEA. We intend to select participants for the negotiated rulemaking committees from nominees of the organizations and groups that represent the interests significantly affected by the proposed regulations. To the extent possible, we will select from the nominees, individual negotiators who reflect the diversity among program participants, in accordance with section 492(b)(1) of the HEA.

Regulatory Issues

We intend to conduct negotiated rulemaking to develop proposed regulations for the new Academic Competitiveness Grant (ACG) and National Science and Mathematics Access to Retain Talent Grant (National SMART Grant) programs, which were added to Title IV of the HEA by the Higher Education Reconciliation Act of 2005 (HERA), Pub. L. 109-171. Interim final regulations for these programs, with an invitation to comment, were published in the Federal Register on July 3, 2006 (71 FR 37990). The interim final regulations will be used to administer these programs for the 2006-2007 award year. The Secretary may, for the 2007-2008 award year, amend the regulations, as appropriate, in response to comments received. The regulations for these programs that will be developed through negotiated rulemaking would be in effect for the third and subsequent years of implementation of these programs (that is, beginning July 1, 2008).

Additionally, we expect to conduct negotiated rulemaking on any modifications to the regulations governing the Title IV programs generally that may be suggested as a result of the final report from the Secretary's Commission on the Future of Higher Education. The Commission plans to issue its report by mid-September. Therefore, the regulatory negotiation process could be used, to the extent possible, to address any recommendations for reducing regulatory burden or improving the administration of the Department's programs authorized by Title IV of the HEA.

We also note that there are bills currently pending in Congress to reauthorize the HEA. If reauthorization of the HEA is completed prior to the first negotiating session, we will, to the extent practicable, also include on the negotiating agenda changes to the regulations that may be needed to reflect any new law that may be enacted.

We also expect to conduct negotiated rulemaking on other regulatory issues. These issues may include: issues raised by the public during the regional hearings; issues resulting from changes made by the HERA, other than those relating to the ACG/National SMART Grant programs; and items that have been identified by the Department as needed to improve program administration and accountability.

Structure of the Committees

We anticipate having up to four negotiating committees based upon the nature of the topics to be negotiated. Each of the following committees will be organized as necessary depending upon the comments received as a result of this notice. One negotiating committee will focus on issues related to the ACG and National SMART Grant programs. A second committee would address issues related to the Federal student loan programs authorized by Title IV, Parts B, D, and E of the HEA. A third committee would address other programmatic, institutional eligibility and general provisions issues. This committee could address issues related to HEA Title IV Parts A (except for ACG and National SMART Grants), C, G, and H (except Subpart 2), as well as HEA Title II, Section 208(b)(2). A fourth committee would address accreditation issues (Title IV, Part H, Subpart 2). Our goal is to establish committees that will allow significantly affected parties to be represented while keeping the committees' size manageable.

Nominations of individuals from coalitions of individuals and organizations representing the constituencies identified below are strongly encouraged. Moreover, the Department encourages nominations of individuals who are actively involved in administering the Federal programs that are the subject of these negotiated rulemaking sessions and who can represent the interests of groups that are significantly affected by the regulations. The committees may create subgroups on particular topics that would involve additional individuals who are not members of the committees. Individuals who are not selected as members of the committees will be able to attend the meetings, have access to the individuals representing their constituencies, and participate in informal working groups on various issues between the meetings. The committee meetings will be open to the public.

The Department has identified the constituencies listed below as having interests that are significantly affected by the subject matter of the negotiated rulemaking process. The Department anticipates that individuals representing each of these constituencies will participate as members of one or more of the negotiated rulemaking committees. These constituencies are:

Students; Legal assistance organizations that represent students; Financial aid administrators at institutions of higher education; Business officers and bursars at institutions of higher education; Institutional servicers (including collection agencies); Trustees; State higher education executive officers; Business and industry;

Institutions of higher education eligible to receive Federal assistance under Title III, Parts A and B and Title V of the HEA, which includes Historically Black Colleges and Universities, Hispanic-Serving Institutions, American Indian Tribally Controlled Colleges and Universities, Alaska Native and Native Hawaiian-Serving Institutions, and other institutions with a substantial enrollment of needy students as defined in Title III of the HEA; Two-year public institutions of higher education; Four-year public institutions of higher education; Private, non-profit institutions of higher education; Private, for-profit institutions of higher education; Guaranty agencies and guaranty agency servicers (including collection agencies); Lenders, secondary markets, and loan servicers; and Accrediting Agencies.

In addition to these groups, the Department would like the following groups to be represented on the negotiating committee for the ACG and National SMART Grant program:

K-12 public schools, including charter schools; Governors; Private schools and home schooled students; Registrars; Admissions officers; Parent organizations; and Organizations related to National SMART Grant majors.

While an individual selected to represent a constituency may be a representative of a group, institution, or industry participant, the individual will be expected to represent the interests of the entire constituency on the committee and to confer with other individuals and representatives of groups within that constituency.

Nominations should include:

• The name of the nominee, the organization he or she works for, if any, and a description of the interests that he or she represents;

• Evidence of support from individuals or groups of the constituency that he or she will represent;

• The nominee's commitment that he or she will actively participate in good faith in the development of the proposed regulations; and

• The nominee's contact information, including address, phone number, fax number, and e-mail address.

Schedule for Negotiations

We anticipate that the negotiating committees will meet in the Washington, DC, area three times beginning in December 2006 and concluding no later than March 2007. The dates and locations of these meetings will be published in a subsequent notice in the Federal Register, as well as being posted on the Department's Web site at: http://www.ed.gov/policy/highered/reg/hearulemaking/2006/index2006.html.

We will post the schedule for negotiations on our Web site. Each committee will use electronic mail to exchange documents and discuss proposals between meetings. The schedule will allow sufficient time for us to provide the public with a 60-day comment period for the proposed regulations resulting from the negotiated rulemaking process and sufficient time to address any issues raised in the comment period, while meeting the November 1 statutory deadline for publishing student financial assistance final regulations.

Regional Hearings

We will hold four public regional hearings for interested parties to discuss the agenda for the negotiated rulemaking sessions. These hearings will be held on:

• September 19, 2006, at the University of California-Berkeley in Berkeley, California;

• October 5, 2006, at the Loyola University in Chicago, Illinois;

• November 2, 2006, at the Royal Pacific Hotel Conference Center in Orlando, Florida; and

• November 8, 2006, at the U.S. Department of Education in Washington, DC.

The regional hearings will be held from 9 a.m.-4 p.m. local time.

Individuals desiring to present comments at the hearings are encouraged to do so. It is likely that each participant choosing to make a statement will be limited to five minutes. Individuals interested in making oral statements will be able to sign up to make a statement beginning at 8:30 a.m. on the day of the hearing at the Department's regional hearing on-site registration table on a first-come, first-served basis. If additional time slots remain, individuals may be given additional time to speak. If no time slots remain, the Department has reserved one additional hour at the end of the day for people who were not able to register to speak. The amount of time available will depend upon the number of individuals who request reservations. Speakers may also submit written comments.

In addition, for anyone unable to attend any of the regional hearings, the Department will also accept written comments. You should send your comments to: Wendy Macias, U.S. Department of Education, P.O. Box 33184, Washington, DC 20033-3184. All comments must be received by November 9, 2006.

The regional hearing sites are accessible to individuals with disabilities. Persons needing an auxiliary aid or service to participate in the meeting (e.g., interpreting service, assistive listening device, or materials in alternative format), should notify the contact person for information about meetings listed under FOR FURTHER INFORMATION CONTACT in this notice in advance of the scheduled meeting date. Although we will attempt to meet any request we receive, we may not be able to make available the requested auxiliary aid or service because of insufficient time to arrange it. Further information on the regional hearing sites is available on http://www.ed.gov/policy/highered/reg/hearulemaking/2006/index2006.html.

Electronic Access to This Document

You may view this document, in text or Adobe Portable Document Format (PDF) on the Internet at the following site: http://www.ed.gov/news/fedregister.

To use PDF you must have Adobe Acrobat Reader, which is available free at this site. If you have questions about using PDF, call the U.S. Government Printing Office toll free at 1-888-293-6498; or in the Washington, DC area at (202) 512-1530.

Note: The official version of this document is the document published in the Federal Register. Free Internet access to the official edition of the Federal Register and the Code of Federal Regulations is available on GPO Access at: http://www.gpoaccess.gov/nara/index.html.

Program Authority: 20 U.S.C. 1098a.

Dated: August 15, 2006.
James F. Manning,
Acting Assistant Secretary for Postsecondary Education.

[FR Doc. E6-13642 Filed 8-17-06; 8:45 am]

BILLING CODE 4000-01-P